DEPARTMENT OF COMMERCE

National Oceanic and Atmospheric Administration

50 CFR Part 679

[I.D. 041307D]

Fisheries of the Exclusive Economic Zone Off Alaska; Allocating Bering Sea/Aleutian Islands Fishery Resources; Notice of Limited Access Privilege Program Public Workshop

AGENCY: National Marine Fisheries Service (NMFS), National Oceanic and Atmospheric Administration (NOAA), Commerce.

ACTION: Notification of an additional public workshop.

SUMMARY: NMFS will present an additional public workshop in June 2007 on the proposed program to implement the Amendment 80 Program (Program) for potentially eligible participants and other interested parties. The Program would implement a limited access privilege program (LAPP) for specific groundfish fisheries in the Bering Sea and Aleutian Islands management area (BSAI). At the workshop, NMFS will provide an overview of the proposed Program, discuss the key proposed Program elements, and answer questions. NMFS is conducting this public workshop to provide assistance to fishery participants in understanding and reviewing this proposed Program.

DATES: The workshop will be held on Monday, June 18, 2007, from 1 p.m. to 4 p.m. Pacific standard time.

ADDRESSES: The workshop will be held at the Nordby Conference Center, Fishermen's Terminal, 3919 18th Ave. W. Seattle, WA 98119.

FOR FURTHER INFORMATION CONTACT: Glenn Merrill, 907-586-7228 or glenn.merrill@noaa.gov.

SUPPLEMENTARY INFORMATION: NMFS has published a proposed rule that would implement a LAPP for Amendment 80 to the Fishery Management Plan for BSAI Groundfish (FMP) (72 FR 30052, May 30, 2007). Among other things, Amendment 80 would allocate specific BSAI groundfish resources among a defined group of harvesters under a LAPP; limit the bycatch of halibut and crab resources; assign Amendment 80 quota share (QS) that could be used to yield an exclusive harvest privilege on an annual basis; allow Amendment 80 QS holders to form a cooperative with other Amendment 80 QS holders on an annual basis to receive an exclusive harvest privilege; implement use caps to limit the amount of Amendment 80 QS a person could hold; limit the total amount of catch in other groundfish fisheries that could be taken by participants in the Program; ensure minimum retention of groundfish while fishing in the BSAI; and establish necessary monitoring and enforcement standards. Amendment 80 was approved by the North Pacific Fishery Management Council on June 9, 2006.

In addition to other laws, the Program is specifically designed to meet the requirements of:

• Section 219 of the Consolidated Appropriations Act of 2005 (Public Law 108-447; December 8, 2004), which defined the Amendment 80 sector and implemented a capacity reduction program for several catcher/processor sectors;

• Section 416 of the Coast Guard and Maritime Transportation Act of 2006 (Public Law 109-241; July 11, 2006), which amended provisions of the Community Development Quota (CDQ) Program in the Magnuson-Stevens Fishery Conservation and Management Act; and

• The Magnuson-Stevens Fishery Conservation and Management Reauthorization Act (Public Law 109-479, January 12, 2007), which modified provisions related to the CDQ Program and instituted other measures applicable to LAPPs.

NMFS is conducting this public workshop to provide assistance to fishery participants in understanding and reviewing the proposed requirements. A similar workshop was held May 23, 2007 (72 FR 27798, May 17, 2007). At the workshop, NMFS will provide an overview of the proposed Program, and discuss the key Program elements, including: quota share application; cooperative and limited access participation provisions; cooperative quota transfer provisions; measures to establish sideboard limits to protect non-LAPP fishery participants, the appeals process; catch accounting; monitoring and enforcement; and electronic reporting. Additionally, NMFS will answer questions from workshop participants. For further information on the Program, please visit the NMFS Alaska Region website at http://www.fakr.noaa.gov.

Special Accommodations

This workshop is physically accessible to people with disabilities. Requests for special accommodations should be directed to Glenn Merrill (see FOR FURTHER INFORMATION CONTACT) by June 11, 2007.

Dated: May 31, 2007.
James P. Burgess
Acting Director, Office of Sustainable Fisheries, National Marine Fisheries Service.

[FR Doc. E7-10923 Filed 6-6-07; 8:45 am]

BILLING CODE 3510-22-S